DEPARTMENT OF TRANSPORTATION

Federal Aviation Administration

14 CFR Part 39

[Docket No. FAA-2025-0013; Project Identifier MCAI-2024-00375-A; Amendment 39-23097; AD 2025-15-10]

RIN 2120-AA64

Airworthiness Directives; Piaggio Aviation S.p.A. Airplanes

AGENCY: Federal Aviation Administration (FAA), DOT.

ACTION: Final rule.

SUMMARY: The FAA is superseding Airworthiness Directive (AD) 2023-25-03, which applied to certain Piaggio Aviation S.p.A. (Piaggio) Model P-180 airplanes. AD 2023-25-03 required a one-time detailed inspection of the horizontal stabilizer (HS) central box for corrosion; an assessment of the corrosion level; and depending on the determination, repetitive detailed inspections of the HS central box for corrosion and the internal composite structure for surface cracks, distortion, and damage; and repair or replacement of the HS assembly. Repair or replacement of the HS assembly was terminating action for the repetitive inspections. Since the FAA issued AD 2023-25-03, it was determined that AD 2023-25-03 imposed an unintended restriction that is not in the mandatory continuing airworthiness information (MCAI). This AD retains certain actions of AD-2023-25-03 and removes the unintended restriction. The FAA is issuing this AD to address the unsafe condition on these products.

DATES: This AD is effective September 3, 2025.

The Director of the Federal Register approved the incorporation by reference of a certain publication listed in this AD as of February 2, 2024 (88 FR 90085, December 29, 2023).

ADDRESSES:

AD Docket: You may examine the AD docket at regulations.gov under Docket No. FAA-2025-0013; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

Material Incorporated by Reference:

• For Piaggio material identified in this AD, contact Piaggio Aviation S.p.A., P180 Customer Support, via Pionieri e Aviatori d'Italia, snc—16154 Genoa, Italy; phone: +39 331 679 74 93; email: technicalsupport@piaggioaerospace.it.

• You may view this material at the FAA, Airworthiness Products Section, Operational Safety Branch, 901 Locust, Kansas City, MO 64106. For information on the availability of this material at the FAA, call (817) 222-5110. It is also available at regulations.gov under Docket No. FAA-2025-0013.

FOR FURTHER INFORMATION CONTACT: William McCully, Aviation Safety Engineer, FAA, 1600 Stewart Avenue, Suite 410, Westbury, NY 11590; phone: (404) 474-5548; email: william.mccully@faa.gov.

SUPPLEMENTARY INFORMATION:

Background

The FAA issued a notice of proposed rulemaking (NPRM) to amend 14 CFR part 39 to supersede AD 2023-25-03, Amendment 39-22630 (88 FR 90085, December 29, 2023) (AD 2023-25-03). AD 2023-25-03 applied to certain Piaggio Model P-180 airplanes.

AD 2023-25-03 was prompted by AD 2023-0007, dated January 13, 2023 (EASA AD 2023-0007) (also referred to as the MCAI) issued by the European Union Aviation Safety Agency (EASA), which is the Technical Agent for the Member States of the European Union. The MCAI states that an occurrence of corrosion was found inside the HS central box of a Piaggio Model P-180 airplane during scheduled maintenance. A subsequent investigation and inspection of 16 other Piaggio Model P-180 airplanes of various configurations and ages revealed that corrosion of differing levels of severity was found on various aluminum alloy reinforcements in the HS central box of all the inspected airplanes. The MCAI also states that this corrosion was caused by the formation of a humid environment inside the HS central box, from water ingress and/or condensation. Further investigation revealed that airplanes left in prolonged inactivity or parked outside are more prone to develop corrosion damage.

AD 2023-25-03 required a one-time detailed inspection of the HS central box for corrosion; an assessment of the corrosion level; and depending on the determination, repetitive detailed inspections of the HS central box for corrosion and the internal composite structure for surface cracks, distortion, and damage; and repair or replacement of the HS assembly. Repair or replacement of the HS assembly was terminating action for the repetitive inspections. The FAA issued AD 2023-25-03 to address corrosion on various aluminum alloy reinforcements in the HS central box caused by a humid environment inside the box from water ingress and/or condensation. Since the FAA issued AD 2023-25-03, it was determined that a portion of paragraph (g)(4)(ii) of that AD included an unintended requirement to replace or repair the HS assembly after 660 hours time-in-service (TIS) or 13 months, whichever occurs first, following a finding of level 2 corrosion.

The NPRM published in the Federal Register on January 30, 2025 (90 FR 8507). In the NPRM, the FAA proposed to retain certain actions of AD-2023-25-03 and remove the unintended restriction. The FAA is issuing this AD to address corrosion on the various aluminum alloy reinforcements in the HS central box caused by a humid environment inside the box from water ingress and/or condensation. The unsafe condition, if not addressed, could result in reduced structural integrity of the HS and loss of control of the airplane.

You may examine the MCAI in the AD docket at regulations.gov under Docket No. FAA-2025-0013.

Discussion of Final Airworthiness Directive

Comments

The FAA received one comment from an individual commenter. The following presents the comment received on the NPRM and the FAA's response to that comment.

Request To Allow Nondestructive Testing (NDT) Options

The commenter noted that in the NPRM the proposed cost estimate for repetitive inspections is based on traditional physical inspections, which require extensive airplane downtime. The commenter stated that allowing NDT methods, such as eddy current or ultrasonic inspections, provides a viable alternative to the traditional physical inspection methods specified in the proposed AD, that could significantly reduce the amount of labor hours while maintaining safety standards. The commenter mentioned that in the FAA's Aviation Maintenance Technical Handbook—General (FAA-H-8083-30B) 2023, NDT methods allow for the detection of subsurface corrosion without requiring component disassembly, so they are more efficient for routine inspections. The commenter stated that allowing NDT as an alternative compliance method would ensure continued airworthiness without imposing unnecessary financial burdens on operators. The FAA infers that the commenter requested that the proposed AD be revised to include NDT methods.

The FAA agrees with the commenter's statements about NDT methods allowing for the detection of subsurface corrosion without requiring component disassembly and that NDT would not impose unnecessary financial burdens upon operators. A borescope inspection is considered an NDT method. The costs of this AD account for borescope inspections. The FAA acknowledges that eddy current and ultrasound inspection methods are generally effective to detect subsurface damage in single or stacked layers of material because these methods can reveal damage in hidden or difficult to access areas. For this AD, a borescope inspection is considered the least invasive and has been determined to be the most effective in areas such as the HS central box. However, an operator may apply for an alternative method of compliance (AMOC) in accordance with paragraph (i) of this AD, along with substantiation data to show that eddy current and ultrasound methods would provide an acceptable level of safety.

The FAA has not changed this AD as a result of this comment.

Conclusion

These products have been approved by the aviation authority of another country and are approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on these products. This AD is adopted as proposed in the NPRM.

Material Incorporated by Reference Under 1 CFR Part 51

This AD requires Piaggio Aerospace Service Bulletin 80-0489, Revision 2, dated November 30, 2022, which the Director of the Federal Register approved for incorporation by reference as of February 2, 2024 (88 FR 90085, December 29, 2023).

This material is reasonably available because the interested parties have access to it through their normal course of business or by the means identified in the ADDRESSES section.

Differences Between This AD and the Referenced Material

The Referenced Material requires contacting the manufacturer for a determination of the corrosion level if any corrosion is found during the initial inspection of the HS central box, and if it is determined that level 2 or 3 corrosion is present, having the manufacturer provide the threshold and intervals for doing repetitive inspections of the HS central box. This AD requires contacting either the FAA, EASA, or Piaggio's EASA Design Organization Approval (DOA). If approved by the DOA, the approval must include the DOA-authorized signature.

Although Piaggio Aerospace Service Bulletin 80-0489, Revision 2, dated November 30, 2022, specifies to record the image of the location of corroded areas, this AD does not require that action.

Costs of Compliance

The FAA estimates that this AD affects 102 airplanes of U.S. registry.

The FAA estimates the following costs to comply with this AD:

Estimated Costs
Action | Labor cost | Parts cost | Cost per product | Cost on U.S. operators
Initial inspection of HS central box for corrosion | 6 work-hours × $85 per hour = $510 | $0 | $510 | $52,020

On-Condition Costs
Action | Labor cost | Parts cost | Cost per product
Repetitive inspections of HS central box for corrosion | 6 work-hours × $85 per hour = $510, per inspection cycle | $0 | $510, per inspection cycle.
Repetitive inspections for surface cracks, distortion, and damage | 6 work-hours × $85 per hour = $510, per inspection cycle | 0 | $510, per inspection cycle.
Replace HS assembly | 10 work-hours × $85 per hour = $850 | 150,000 | $150,850.

The repair of the HS assembly that may be required as a result of any inspection could vary significantly from airplane to airplane. The FAA has no data to determine the costs to accomplish the repair or the number of airplanes that may require the repair.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2023-25-03, Amendment 39-22630 (88 FR 90085, December 29, 2023); and

b. Adding the following new airworthiness directive:

2025-15-10 Piaggio Aviation S.p.A.: Amendment 39-23097; Docket No. FAA-2025-0013; Project Identifier MCAI-2024-00375-A.

(a) Effective Date

This airworthiness directive (AD) is effective September 3, 2025.

(b) Affected ADs

This AD replaces AD 2023-25-03, Amendment 39-22630 (88 FR 90085, December 29, 2023).

(c) Applicability

This AD applies to Piaggio Aviation S.p.A. Model P-180 airplanes, serial numbers (S/Ns) 1002, 1004 through 1234 inclusive, 3001 through 3012 inclusive, and 3016, certificated in any category.

(d) Subject

Joint Aircraft System Component (JASC) Code 5510, Horizontal Stabilizer Structure.

(e) Unsafe Condition

This AD was prompted by a report of corrosion on the various aluminum alloy reinforcements in the horizontal stabilizer (HS) central box caused by a humid environment inside the box from water ingress and/or condensation. The FAA is issuing this AD to address this condition. The unsafe condition, if not addressed, could result in reduced structural integrity of the HS and loss of control of the airplane.

(f) Compliance

Comply with this AD within the compliance times specified, unless already done.

(g) Required Actions

(1) Within the applicable compliance time specified in table 1 to paragraph (g)(1) of this AD, do a detailed inspection of the HS central box for corrosion, in accordance with step (8), of Part A, of the Accomplishment Instructions in Piaggio Aerospace Service Bulletin 80-0489, Revision 2, dated November 30, 2022 (Piaggio SB 80-0489, Revision 2), except you are not required to record any images.

Table 1 to Paragraph (g)(1)—HS Central Box One Time Inspection
P-180 serial No. | Compliance time (hours Time-in-Service (TIS) or calendar time, whichever occurs first after February 2, 2024 (the effective date of AD 2023-25-03))
1002; and 1034 through 3016 inclusive | Within 220 hours TIS or 13 months after February 2, 2024 (the effective date of AD 2023-25-03).
1004 through 1033 inclusive | Within 320 hours TIS or 13 months after February 2, 2024 (the effective date of AD 2023-25-03).

(2) If, during the inspection required by paragraph (g)(1) of this AD, any corrosion is detected, before next flight, contact either the Manager, International Validation Branch, FAA; European Union Aviation Safety Agency (EASA); or Piaggio's EASA Design Organization Approval (DOA), for an assessment of the corrosion level (level 1, 2, or 3).

Note 1 to paragraph (g)(2): Appendix 1, Inspection Results Form, in Piaggio SB 80-0489, Revision 2, may be used when contacting the FAA, EASA, or Piaggio's EASA DOA.

(3) If level 1 corrosion is found during the inspection required by paragraph (g)(1) of this AD, no further action is required by this AD.

(4) If level 2 corrosion is found during the inspection required by paragraph (g)(1) of this AD, do the action in either paragraph (g)(4)(i) or (ii) of this AD.

(i) Before further flight, replace the HS assembly or repair the HS assembly in accordance with instructions from either the Manager, International Validation Branch, FAA; EASA; or Piaggio's EASA DOA. If approved by the DOA, the approval must include the DOA-authorized signature.

(ii) Within 400 hours TIS or 12 months, whichever occurs first after the inspection required by paragraph (g)(1) of this AD, and thereafter at intervals not to exceed 400 hours TIS or 12 months, whichever occurs first after the most recent inspection, repeat the inspection required by paragraph (g)(1) of this AD. In addition, inspect the internal composite structure of the HS central box for surface cracks, distortion, and damage. After each repetitive inspection, before further flight, assess the inspection findings as required by paragraph (g)(2) of this AD. If it is determined that the level 2 corrosion has worsened since the last inspection; or if any surface cracks, distortion, or damage is found during any inspection; before further flight, replace the HS assembly or repair the HS assembly in accordance with instructions from either the Manager, International Validation Branch, FAA; EASA; or Piaggio's EASA DOA. If approved by the DOA, the approval must include the DOA-authorized signature. These inspections must be repeated at intervals not to exceed 400 hours TIS or 12 months, whichever occurs first after the most recent inspection.

(5) If level 3 corrosion is found during the inspection required by paragraph (g)(1) of this AD, do the actions required by paragraph (g)(5)(i) or (ii) of this AD.

(i) Before further flight after the inspection required by paragraph (g)(1) of this AD, replace the HS assembly or repair the HS assembly in accordance with instructions from either the Manager, International Validation Branch, FAA; EASA; or Piaggio's EASA DOA. If approved by the DOA, the approval must include the DOA-authorized signature.

(ii) Within 200 hours TIS or 6 months, whichever occurs first after the inspection required by paragraph (g)(1) of this AD, and thereafter at intervals not to exceed 200 hours TIS or 6 months, whichever occurs first after the most recent inspection, repeat the inspection required by paragraph (g)(1) of this AD. In addition, inspect the internal composite structure of the HS central box for surface cracks, distortion, and damage. After each repetitive inspection, before further flight, assess the inspection findings as required by paragraph (g)(2) of this AD. If it is determined that the level 3 corrosion has worsened since the last inspection; or if any surface cracks, distortion, or damage is found; before further flight, replace the HS assembly or repair the HS assembly in accordance with instructions from either the Manager, International Validation Branch, FAA; EASA; or Piaggio's EASA DOA. If approved by the DOA, the approval must include the DOA-authorized signature. These inspections must be repeated at intervals not to exceed 200 hours TIS or 6 months, whichever occurs first after the most recent inspection, until a maximum of 660 hours TIS or 13 months, whichever occurs first after the inspection required by paragraph (g)(1) of this AD, at which time the HS assembly must be repaired or replaced.

(6) Repair or replacement of the HS assembly is terminating action for the repetitive inspections required by paragraphs (g)(4)(ii) and (g)(5)(ii) of this AD.

(h) Credit for Previous Actions

You may take credit for the actions required by paragraphs (g)(1) through (5) of this AD if you performed those actions before February 2, 2024 (the effective date of AD 2023-25-03) using Piaggio Aerospace Service Bulletin 80-0489, Revision 1, dated May 13, 2022.

(i) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (j) of this AD or email to: AMOC@faa.gov. If mailing information, also submit information by email. Before using any approved AMOC, notify your appropriate principal inspector, or lacking a principal inspector, the manager of the local flight standards district office/certificate holding district office.

(j) Additional Information

For more information about this AD, contact William McCully, Aviation Safety Engineer, FAA, 1600 Stewart Avenue, Suite 410, Westbury, NY 11590; phone: (404) 474-5548; email: william.mccully@faa.gov.

(k) Material Incorporated by Reference

(1) The Director of the Federal Register approved the incorporation by reference (IBR) of the material listed in this paragraph under 5 U.S.C. 552(a) and 1 CFR part 51.

(2) You must use this material as applicable to do the actions required by this AD, unless the AD specifies otherwise.

(3) The following material was approved for IBR on February 2, 2024 (88 FR 90085, December 29, 2023).

(i) Piaggio Aerospace Service Bulletin 80-0489, Revision 2, dated November 30, 2022.

(ii) [Reserved]

(4) For Piaggio material identified in this AD, contact Piaggio Aviation S.p.A., P180 Customer Support, via Pionieri e Aviatori d'Italia, snc—16154 Genoa, Italy; phone: +39 331 679 74 93; email: technicalsupport@piaggioaerospace.it.

(5) You may view this material at the FAA, Airworthiness Products Section, Operational Safety Branch, 901 Locust, Kansas City, MO 64106. For information on the availability of this material at the FAA, call (817) 222-5110.

(6) You may view this material at the National Archives and Records Administration (NARA). For information on the availability of this material at NARA, visit www.archives.gov/federal-register/cfr/ibr-locations or email fr.inspection@nara.gov.

Issued on July 25, 2025.
Steven W. Thompson,
Acting Deputy Director, Compliance & Airworthiness Division, Aircraft Certification Service.

[FR Doc. 2025-14390 Filed 7-29-25; 8:45 am]

BILLING CODE 4910-13-P